DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by April 3, 2025. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Agricultural Prices—Substantive Change.

OMB Control Number: 0535-0003.

Summary of Collection: The U.S. Department of Agriculture needs estimates of prices received by farmers and prices paid by farmers for production goods and services for the following purposes:

—computing Parity Prices in accordance with requirements of the Agricultural Adjustment Act of 1938 as amended;

—estimating value of production, inventory values, and cash receipts from farming;

—determining the level for farmer owned reserves;

—providing guidelines for Risk Management Agency price selection options;

—determining Federal disaster prices to be paid;

—input into agricultures contribution to the national income and product accounts (NIPA);

—use in agricultures contribution to national gross domestic product (GDP);

—establishing USDA's net farm income projections by the Economic Research Service; and

—determining the grazing fee on Federal lands.

General authority for these data collection activities is granted under U.S. Code Title 7, Section 2204 (a). This statute specifies that “The Secretary of Agriculture shall procure and preserve all information concerning agriculture which he can obtain . . . by the collection of statistics . . . and shall distribute them among agriculturalists.”

The National Agricultural Statistics Service (NASS) is requesting a substantive change to the Agricultural Prices information collection request (OMB No. 0535-0003) to adjust data collection in effort to increase efficiency by eliminating one survey and collecting data for that eliminated survey on another survey with a more reliable population for reporting peanut seed prices. There is no change in total burden as a result of this change.

Need and Use of the Information: The NASS price program computes annual U.S. weighted average prices received by farmers for wheat, barley, oats, corn, grain sorghum, rice, cotton, peanuts, pulse crops and oilseeds based on monthly marketing. Estimates of prices received are used by NASS to determine the value of agricultural production. Prices estimates are used by many Government agencies as a general measure of commodity price changes, economic analysis relating to farm income and alternative marketing policies, and for disaster and insurance payments. NASS estimates based on these surveys are used as a Principle Economic Indicator of the United States. These price estimates are also used to compute Parity Prices in accordance with requirements of the Agricultural Adjustment Act of 1938 as amended (Title III, Subtitle A, Section 301(a)).

Description of Respondents: Farms; Business or other for-profit.

Number of Respondents: 39,525.

Frequency of Responses: Weekly; Monthly; Quarterly; Biennially; Annually.

Total Burden Hours: 25,205.

Levi S. Harrell,
Departmental Information Collection Clearance Officer.

[FR Doc. 2025-03458 Filed 3-3-25; 8:45 am]

BILLING CODE 3410-20-P